DEPARTMENT OF STATE

[Public Notice: 10339]

International Joint Commission To Make Recommendations on Nutrient Loading and Impacts in Lakes Champlain and Memphremagog

AGENCY: Department of State.

ACTION: Notice.

The International Joint Commission (IJC) has released initial work plans relating to the reduction of nutrient loading and the causes of harmful algal blooms (HABs) in the Lake Champlain-Missisquoi Bay and Lake Memphremagog basins. The Governments of Canada and the United States requested that the IJC undertake this work in a reference dated October 19, 2017.

The governments have asked the IJC to examine current programs and measures to address high nutrient levels and algal blooms, and make recommendations on how to strengthen these efforts in both lakes. Algal blooms can foul shorelines, degrade water quality, and produce toxins that make people, wildlife and pets sick. As a result, recreational activities and local economies can be impacted.

Though both lakes eventually empty into the St. Lawrence River, they are in separate watersheds. Because of this and other differences between the two systems, the IJC will carry out the work as two distinct projects. The IJC will present its findings and recommendations to governments in fall 2019.

This work will complement existing activities regarding flooding in the Lake Champlain-Richelieu River basin, which are being conducted under a separate reference received from governments in September 2016.

To learn more about the review of nutrient loading and impacts in lakes Champlain and Memphremagog, visit ijc.org/en_/lclm. Information on the International Lake Champlain-Richelieu River Flooding Study can be found on ijc.org/en_lcrr.

If you wish to receive updates regarding the IJC's work on nutrient loadings and impacts in the Lake Champlain-Missisquoi Bay and Lake Memphremagog basins, including notice of opportunities for public comment, please send your contact information by email or regular mail to either secretary of the IJC:

Secretary, Canadian Section, 234 Laurier Avenue West, 22nd Floor, Ottawa, Ontario K1P 6K6, Commission@ottawa.ijc.org

Secretary, United States Section, 1717 H Street NW, Suite 835, Washington, DC 20440, Commission@washington.ijc.org

The International Joint Commission was established under the Boundary Waters Treaty of 1909 to help the United States and Canada prevent and resolve disputes over the use of the waters the two countries share. Its responsibilities include investigating and reporting on issues of concern when asked by the governments of the two countries.

Charles A. Lawson,
Secretary, U.S. Section, International Joint Commission, Department of State.

[FR Doc. 2018-04319 Filed 3-2-18; 8:45 am]

BILLING CODE 4710-14-P